DEPARTMENT OF HEALTH AND HUMAN SERVICES

National Institutes of Health

National Institute on Alcohol Abuse and Alcoholism; Amended Notice of Meeting

Notice is hereby given of a change in the meeting of the National Institute on Alcohol Abuse and Alcoholism Special Emphasis Panel, November 8, 2019, 8:30 a.m. to 5:00 p.m., National Institute on Alcohol Abuse and Alcoholism, 6700B Rockledge Drive, Bethesda, MD 20817 which was published in the Federal Register on February 11, 2019, 84 FR 3205.

The meeting notice is amended to change the Contact Person from Dr. Richard A. Rippe to Dr. Beata Buzas. Dr. Buzas may be reached at National Institute on Alcohol Abuse and Alcoholism, National Institutes of Health, 6700 B Rockledge Drive, Room 2116, Rockville, MD 20852, 301-443-0800, bbuzas@mail.nih.gov. The meeting is closed to the public.

Dated: September 10, 2019.
Melanie J. Pantoja,
Program Analyst, Office of Federal Advisory Committee Policy.

[FR Doc. 2019-19945 Filed 9-13-19; 8:45 am]

BILLING CODE 4140-01-P